FEDERAL COMMUNICATIONS COMMISSION

47 CFR Part 73

[DA 01-380, MM Docket No. 00-118, RM-9757]

Digital Television Broadcast Service; Lexington, KY

AGENCY: Federal Communications Commission.

ACTION: Final rule.

SUMMARY: The Commission, at the request of WKYT Licensee Corporation, licensee of station WKYT-TV, substitutes DTV channel 13 for DTV channel 59 at Lexington, Kentucky. See 65 FR 41620, July 6, 2000. DTV channel 13 can be allotted to Lexington in compliance with the principle community coverage requirements of Section 73.625(a) at reference coordinates (38-02-23 N. and 84-24-10 W.), with a power of 5.0, HAAT of 300 meters and with a DTV service population of 758 thousand.

With this action, this proceeding is terminated.

DATES: Effective April 2, 2001.

FOR FURTHER INFORMATION CONTACT: Pam Blumenthal, Mass Media Bureau, (202) 418-1600.

SUPPLEMENTARY INFORMATION: This is a synopsis of the Commission's Report and Order, MM Docket No. 00-118, adopted February 15, 2001, and released February 16, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

47 CFR PART 73—[AMENDED]

1. The authority citation for Part 73 continues to read as follows:

Authority: 47 U.S.C. 154, 303, 334, 336.

§ 73.622 [Amended]

2. Section 73.622(b), the Table of Digital Television Allotments under Kentucky, is amended by removing DTV channel 59 and adding DTV channel 13 at Lexington.

Federal Communications Commission.
Barbara A. Kreisman,
Chief, Video Services Division, Mass Media Bureau.

[FR Doc. 01-4325 Filed 2-21-01; 8:45 am]

BILLING CODE 6712-01-P